DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by March 18, 2024. Written comments and recommendations for the proposed information collection should be submitted, identified by docket number 0535-0264, within 30 days of the publication of this notice by any of the following methods:

• Email: ombofficer@nass.usda.gov. Include docket number above in the subject line of the message.

• E-fax: 855-838-6382.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336 South Building, 1400 Independence Avenue SW, Washington, DC 20250-2024.

An agency may not conduct or sponsor a collection of information unless the collection of information displays a currently valid OMB control number and the agency informs potential persons who are to respond to the collection of information that such persons are not required to respond to the collection of information unless it displays a currently valid OMB control number.

National Agricultural Statistics Service (NASS)

Title: Agricultural Surveys Program.

OMB Control Number: 0535-0213.

Summary of Collection: General authority for these data collection activities is granted under U.S. Code title 7, section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is requesting a substantive change to the Agricultural Surveys Program information collection request (OMB No. 0535-0213) for program changes. Every five years NASS conducts a program review following the completion of the Census of Agriculture. The program changes balance resources across all of the programs included in the annual estimating program, which represents over 400 individual reports across multiple Information Collection Requests (ICRs). This substantive change is to accommodate the field crop program changes that affect this ICR. The methodology, publication dates, burden and data collection plan do not change as result of these program changes. The changes to these surveys will not affect burden hours.

Need and Use of the Information: The surveys provide the basis for estimates of the current season's crop and livestock production and supplies of grain in storage. Crop and livestock statistics help develop a stable economic atmosphere and reduce risk for production, marketing, and distribution operations. These commodities affect the well being of the nation's farmers, commodities markets, and national and global agricultural policy. Users of agricultural statistics are farm organizations, agribusiness, state and national farm policy makers, and foreign buyers of agricultural products but the primary user of the statistical information is the producer. Agricultural statistics are also used to plan and administer other related federal and state programs in such areas as school lunch program, conservation, foreign trade, education, and recreation. Collecting the information less frequent would eliminate needed data to keep the government and agricultural industry abreast of changes at the state and national levels.

Description of Respondents: Farms and Ranches.

Number of Respondents: 491,600.

Frequency of Responses: Reporting: Quarterly; Semi-annually; Monthly; Annually.

Total Burden Hours: 184,481.

National Agricultural Statistics Service (NASS)

Title: Agricultural Resource Management Phases 1 & 2 and Chemical Use Surveys.

OMB Control Number: 0535-0218.

Summary of Collection: General authority for these data collection activities is granted under U.S. Code title 7, section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is requesting a substantive change to the Agricultural Resource Management Phases 1 & 2 and Chemical Use Surveys information collection request (OMB No. 0535-0218) for an increase in sample size due to screening for changes resulting from the reinstatement of the Tenure, Ownership and Transition of Agricultural Land (TOTAL) for 2024. Every 10 years NASS conducts the TOTAL as a follow-on survey to the 2022 Census of Agriculture and are authorized by the Food, Conservation, and Energy Act of 2008 as amended.

The Agricultural Resource Management Survey (ARMS) Phase 3 (OMB # 0535-0275) will be suspended for a period of one year. The suspended survey will be the 2024 survey that would have been conducted in 2025. The scope of the TOTAL survey is greater than that of the ARMS 3 survey. To maintain the ARMS 3 data series, data will be gleaned from the TOTAL surveys to replace the 2024 ARMS 3 data collection.

As a result of the ARMS 3 data being gleaned from TOTAL, the 2024 Integrated Screening Survey (ISS) will include the screening for the TOTAL. Current screening sample size approved for this ICR is 100,000. This substantive change documents the need for the sample size to be increased.

Need and Use of the Information: ARMS is the only annual source of whole farm information available for objective evaluation of many critical issues related to agriculture and the rural economy. This issues that will be addressed in this request are: input usage, production practices, and chemical use. Without these data, decision makers cannot analyze and report on critical issues that affect farms and farm households when pesticide regulatory actions are being considered.

Description of Respondents: Farms; Business or other for-profit.

Number of Respondents: 416,150.

Frequency of Responses: Reporting: Quarterly; Semi-annually; Monthly; Annually.

Total Burden Hours: 52,147.

National Agricultural Statistics Service (NASS)

Title: Water Use Survey.

OMB Control Number: 0535-0262.

Summary of Collection: General authority for these data collection activities is granted under U.S. Code title 7, section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The Water Use survey program will collect information on water usage for North Carolina agricultural operations that likely use between 10,000 and 1,000,000 gallons per day. Agricultural operations who use over 1,000,000 gallons in any one day are required to report their water usage directly to North Carolina Department of Environmental Quality (NCDEQ) and are not included in this survey. All questionnaires included in this information collection will be voluntary. This project is conducted as a cooperative effort with the North Carolina Department of Agriculture and Consumer Services. Funding for this survey is being provided by NCDACS.

Need and Use of the Information: The program will help the North Carolina Department of Agriculture and Consumer Services (NCDACS) and NCDEQ fulfill the requirements of North Carolina state legislation enacted in 2008 (SL2008-0143).

Description of Respondents: Farms; Business or other for-profit.

Number of Respondents: 4,000.

Frequency of Responses: Once for the even numbered years. Data are collected on the odd number years.

Total Burden Hours: 1,918.

National Agricultural Statistics Service

Title: Oregon and Washington Christmas Tree Survey—Production Year 2023.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of agricultural operations with Christmas Tree acreage in Oregon and Washington. Selected farmers will be asked to provide data on (1) Number of trees sold and gross sales both by species and county, (2) Number of new seedlings by species, and (3) Percentage of mortality.

General authority for these data collection activities is granted under U.S.C. Title 7, Section 2204. This survey will be conducted on a full cost recovery basis with the Oregon Department of Agriculture and the Washington State Department of Agriculture.

Need and Use of the Information: Oregon leads the nation in Cut Christmas Tree production, with Washington also a major producer. NASS estimates have brought stability into this important Pacific Northwest industry. No other data source is available to enable growers to make decisions about production. This project involves sending a survey questionnaire to growers, following up on non-response with telephone calls, editing, analyzing, and summarizing the data. Estimates are generated, including adjustment for non-response for number of trees and value, by variety, seedlings planted by variety, geographic area, and other selected characteristics of Christmas Trees in the states of Oregon and Washington.

Description of Respondents: A sample of all active agricultural operations with Christmas Trees in Oregon and Washington. Sampling will include strata based on acreage.

Number of Respondents: 600.

Frequency of Responses: Reporting: Once a year.

Total Burden Hours: 147.

Levi S. Harrell,
Departmental Information Collection Clearance Officer.

[FR Doc. 2024-03281 Filed 2-15-24; 8:45 am]

BILLING CODE 3410-20-P